FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of a proposed information collection titled “Depositor Claims for Increased Insurance.”

COMMENTS: Comments on this collection of information are welcome and should be submitted on or before August 26, 2004 to both the OMB reviewer and the FDIC contact listed below.

ADDRESSES: Interested parties are invited to submit written comments to Thomas Nixon, Legal Division, Federal Deposit Insurance Corporation, 550 17th Street, NW., Washington, DC 20429. All comments should refer to “Depositor Claims for Increased Insurance.” Comments may be hand-delivered to the guard station at the rear of the 17th Street Building (located on F Street), on business days between 7 a.m. and 5 p.m. Comments may also be submitted to the OMB desk officer for the FDIC: Mark Menchik, Office of Information and Regulatory Affairs, Office of Management and Budget, New Executive Office Building, Washington, DC 20503.

SUPPLEMENTARY INFORMATION: Title: Depositor Claims for Increased Insurance.

OMB Number: New collection.

Frequency of Response: On occasion.

Affected Public: Depositors of failed insured institutions who had more than $100,000 deposited in a testamentary deposit account, a trust account, a defined benefit plan, or other retirement account who may be entitled to more than $100,000 in deposit insurance.

Estimated Annual Number of Respondents: 5,025.

Estimated Time per Response: The time per response will range from one-half hour to one hour depending on the form required.

Estimated Total Annual Burden: 2,738 hours.

General Description of Collection: Depositors of failed institutions initially deemed to be uninsured because their deposits are over $100,000 may be qualified for additional insurance coverage if they provide the FDIC with documents certifying to the existence of varying ownership rights and capacities. The forms in this collection facilitate customers providing the FDIC with the information that would allow increased insurance coverage. Further information about this submission, including copies of the collection of information, may be obtained by calling or writing the FDIC contact listed above.

Federal Deposit Insurance Corporation.
Robert E. Feldman,
Executive Secretary.

[FR Doc. 04-17014 Filed 7-26-04; 8:45 am]

BILLING CODE 6714-01-P